LEGAL SERVICES CORPORATION

Sunshine Act Meeting of the Board of Directors Operations & Regulations Committee

TIME AND DATE: The Operations and Regulations Committee of the Legal Services Corporation Board of Directors will meet on September 18, 2000. The meeting will begin at 9:45 a.m. and continue until the Committee concludes its agenda.

LOCATION: San Francisco Marriott, 55 Fourth Street, San Francisco, California 94103.

STATUS OF MEETING: Open.

MATTERS TO BE CONSIDERED: 1. Approval of agenda.

2. Approval of the minutes of the Committee's meeting of June 25, 2000.

3. Consider and act on a proposed Rulemaking Protocol for recommendation to the Board.

4. Consider and act on revised Federal Register notice announcing and requesting comment on proposed Property Acquisition and Management Manual.

5. Consider and act on other business.

6. Public comment.

CONTACT PERSON FOR INFORMATION: Victor M. Fortuno, Vice President for Legal Affairs, General Counsel & Corporate Secretary, at (202) 336-8800.

SPECIAL NEEDS: Upon request, meeting notices will be made available in alternate formats to accommodate visual and hearing impairments. Individuals who have a disability and need an accommodation to attend the meeting may notify Shannon Nicko Adaway, at (202) 336-8800.

Victor M. Fortuno,
Vice President for Legal Affairs, General Counsel & Corporate Secretary.

[FR Doc. 00-23517 Filed 9-8-00; 2:11 pm]

BILLING CODE 7050-01-P